GENERAL SERVICES ADMINISTRATION

Privacy Act of 1974; System of Records

AGENCY: General Services Administration.

ACTION: Notice of a new system of records subject to the Privacy Act of 1974.

SUMMARY: The General Services Administration (GSA) is providing notice of the establishment of a new record system, Acquisition Career Management Information System (ACMIS) (GSA/OAP-2). The new system will collect information to track, verify, update, and manage the careers of Federal employees in acquisition occupations and to manage the funds and the size and strength of the Federal acquisition workforce.

DATES: Comments on the new system must be provided December 6, 2000. The new system will become effective without further notice on December 6, 2000, unless comments dictate otherwise.

ADDRESSES: Address comments to: Marilyn Geldzahler, Federal Acquisition Institute (MVI), General Services Administration, 1800 F Street, NW, Washington, DC 20405; or to GSA Privacy Act Officer, General Services Administration, CAI, 1800 F Street, NW, Washington, DC 20405.

FOR FURTHER INFORMATION CONTACT: Marilyn Geldzahler at the above address, or telephone (202) 208-1314.

GSA/OAP-2

System Name:

Acquisition Career Management Information System (ACMIS).

System location:

The system is maintained for GSA under contract. Contact the System Manager for additional information.

Categories of Individuals covered by the system:

Federal employees in acquisition and contracting jobs, including personnel in the 1100 occupational series, contracting officers, and other employees performing acquisition, contracting, and procurement functions for Federal agencies.

Categories of Records in the system:

The system contains information needed for managing the careers and training of employees in the Federal acquisition occupational field. Records may include but are not limited to: (1) Biographical data such as name, birth date, and educational level; (2) work related data such as service computation date and retirement information, duty station, occupational series and grade, and Social Security Number; and (3) training records.

Authority for maintenance of the system:

Section 37 of the Office of Federal Procurement Policy Act (41 U.S.C. 433).

Purposes:

To establish and maintain an electronic system to facilitate the career management of Federal employees in acquisition occupations; to ensure that employees meet mandated training requirements; and to effectively manage training funds and the size and qualifications of the Federal acquisition workforce. The system provides to management and to employees in the system up-to-date information on employee certification levels, qualification standards, academic degrees, mandatory and other pertinent training, and warrant status.

Routine uses of the system records, including categories of users and their purpose for using the system.

System information may be accessed and used by employees themselves and their supervisors, designated analysts and managers, and training centers, to track, verify, and update system information. Designated program managers will use the information to manage training funds and the size and strength of the Federal acquisition workforce.

Information from this system also may be disclosed as a routine use:

a. In any legal proceeding, where pertinent, to which GSA is a party before a court or administrative body.

b. To a Federal, State, local, or foreign agency responsible for investigating, prosecuting, enforcing, or carrying out a statute, rule, regulation, or order when GSA becomes aware of a violation or potential violation of civil or criminal law or regulation.

c. To an appeal, grievance, hearing, or complaints examiner; an equal employment opportunity investigator, arbitrator, or mediator; and an exclusive representative or other person authorized to investigate or settle a grievance, complaint, or appeal filed by an individual who is the subject of the record.

d. To the Office of Personnel Management (OPM), the Office of Management and Budget (OMB), and the General Accounting Office (GAO) in accordance with their responsibilities for evaluating Federal programs.

e. To a Member of Congress or his or her staff on behalf of and at the request of the individual who is the subject of the record.

f. To a requesting Federal agency in connection with the hiring, retaining, or promotion of an employee where the information is relevant and necessary for the decision.

g. To authorized officials of the agency that provided the information for inclusion in ACMIS.

h. To an expert, consultant, or contractor of GSA in the performance of a Federal duty to which the information is relevant.

Policies and practices for storing, retrieving, accessing, retaining, and disposing of system records:

Storage:

All records are stored electronically in web-based computer format.

Retrievability:

Records are retrievable by name and/or Social Security Number. Group records are retrieved by organizational code.

Safeguards:

System records are safeguarded in accordance with the requirements of the Privacy Act. Access is limited to authorized individuals with passwords, and the database is maintained behind a firewall certified by the National Computer Security Association.

Retention and disposal:

System records are retained and disposed of according to GAS records maintenance and disposition schedules and the requirements of the National Archives and Records Administration.

System manager(s) and address:

Director, Federal Acquisition Institute (MVI), General Services Administration, 1800 F Street, NW., Washington, DC 20405.

Notification procedure:

Individuals wishing to inquire if the system contains information about them should contact the system manager at the above address.

Record access procedure:

Individuals wishing to access their own records may do so by password. Requests for access also may be directed to the system manager.

Contesting record procedure:

Individuals in the system may amend their own records online, or, as appropriate, request their manager or supervisor to amend the record.

Record source categories:

The sources for information in the system are the individuals for whom the records are maintained, the supervisors of those individuals, existing agency systems, and the Office of the Personnel Management's (OPM) Central Personnel Data File (CPDF).

Dated: October 25, 2000.
Daniel K. Cooper,
Director, Information Management Division.

[FR Doc. 00-28366 Filed 11-3-00; 8:45 am]

BILLING CODE 6820-31-M